DEPARTMENT OF HOMELAND SECURITY

Coast Guard

[Docket No. USCG-2014-0205]

National Preparedness for Response Exercise Program—Cycle Change

AGENCY: Coast Guard, DHS.

ACTION: Notice and request for comments.

SUMMARY: The Coast Guard announces that it is changing from a three-year to a four-year cycle for conducting National Preparedness for Response Exercise Program (PREP) area exercises. The changes are intended to promote the Coast Guard's maritime safety and stewardship missions.

DATES: Comments must be submitted to the online docket via http://www.regulations.gov, or reach the Docket Management Facility, on or before September 5, 2014.

ADDRESSES: Submit any comments using one of these methods:

Online—http://www.regulations.gov following Web site instructions.

Fax—202-493-2251.

Mail or hand deliver—Docket Management Facility (M-30), U.S. Department of Transportation, West Building Ground Floor, Room W12-140, 1200 New Jersey Avenue SE., Washington, DC 20590-0001. Hours for hand delivery are 9 a.m. to 5 p.m., Monday through Friday, except Federal holidays (telephone 202-366-9329).

FOR FURTHER INFORMATION CONTACT: For information about this document call or email LCDR Jerry Butwid, Coast Guard; telephone 202-372-2263; email jerry.d.butwid@uscg.mil. For information about viewing or submitting material to the docket, call Cheryl Collins, Program Manager, Docket Operations, telephone 202-366-9826, toll free 1-800-647-5527.

SUPPLEMENTARY INFORMATION:

Discussion

Coast Guard units manage risk by leveraging opportunities to exercise with public, government, and industry stakeholders. Under 33 U.S.C. 1321(j), the Coast Guard has been required since 1990 to periodically conduct oil spill response exercises to ensure that personnel and equipment are ready to respond to oil spills. The schedule for these exercises is largely determined by the Coast Guard but maintained by the National Schedule Coordination Committee (NSCC), which comprises representatives from the Coast Guard, the Environmental Protection Agency, the Department of Transportation's Pipeline and Hazardous Materials Safety Administration, and the Department of the Interior's Bureau of Safety and Environmental Enforcement (BSEE). Exercises are held in partnership with NSCC agencies and with private industry. Although the statute does not specify how often these exercises must be held, it has been Coast Guard practice since 1994 to hold area exercises once in every three years according to the PREP Guidelines in each of the Coast Guard's 42 Captain of the Port (COTP) zones and in each of the Environmental Protection Agency's 10 Regions. We have decided to extend the area exercise cycle to four years. This will ensure that exercises focus on quality, not quantity, by providing exercise coordinators sufficient time to process and implement area exercise lessons learned and best practices into the preparedness cycle.

On March 25, 2014, BSEE published a notice ¹ on behalf of the NSCC, requesting public comments on the NSCC's latest draft PREP Guidelines update. The notice specifically stated that area exercises follow a three year cycle. We noted the possibility of changing to a four year cycle when we met with our NSCC partners at the NSCC's January 2014 meeting, and the NSCC agreed that BSEE would make no mention of a cycle change in its notice unless we first reached our decision on whether to proceed with the change. We did not reach our decision prior to March 18, when BSEE's notice was signed. The draft PREP Guidelines update to which that notice refers will be updated to reflect the new four year cycle.

¹ 79 FR 16363.

For the next four fiscal years, beginning October 1, 2014, the start of Fiscal Year 2015, the PREP area exercise schedule will be:

2015: Industry-led exercises in Sectors Delaware Bay, San Juan, Mobile Guam, and Juneau; government-led exercises in Sectors Hampton Roads, New Orleans, and Buffalo.

2016: Industry-led exercises in Marine Safety Units Savannah, Duluth, and Valdez, and in Sectors Key West, Corpus Christi, Los Angeles/Long Beach (South), San Francisco, and Columbia River; government-led exercises in Sectors New York and Jacksonville.

2017: Industry-led exercises in MSU Port Arthur and in Sectors Northern New England, Charleston, Lake Michigan, and Puget Sound; government-led exercises in MSU Morgan City and in Sectors Boston, Baltimore, and Long Island Sound.

2018: Industry-led exercises in Sectors Southeastern New England, St. Petersburg, Houston-Galveston, Sault St. Marie, San Diego, Los Angeles/Long Beach (North), and Anchorage; government-led exercises in Sectors North Carolina, Miami, Detroit, and Honolulu.

This notice is issued under authority of 5 U.S.C. 552(a).

Dated: May 29, 2014
P.J. Brown,
Rear Admiral, U.S. Coast Guard Assistant Commandant for Response Policy.

[FR Doc. 2014-14906 Filed 6-25-14; 8:45 am]

BILLING CODE 9110-04-P